FEDERAL MARITIME COMMISSION

Ocean Transportation Intermediary License Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR 515). Notice is also hereby given of the filing of applications to amend an existing OTI license or the Qualifying Individual (QI) for a license.

Interested persons may contact the Office of Transportation Intermediaries, Federal Maritime Commission, Washington, DC 20573.

A&A Contract Customs Brokers, USA Inc. dba A&A International Freight Forwarding (OFF & NVO), #2 12th Street, Blaine, WA 98230. Officers: Isabelle Rucker, Vice President (Qualifying Individual), Graham Robins, President. Application Type: QI Change.

Atlapacific Trading, LLC (OFF & NVO), 714 North Watson Road, Suite 306, Arlington, TX 76011. Officers: Omar Kolaghassi, Manager (Qualifying Individual), Laura Alicia, Manager. Application Type: New OFF & NVO License.

CALS Logistics USA, Inc. (OFF & NVO), 755 North Route 83, Suite 215, Bensenville, IL 60106. Officers: Szuyao Liu, Customer Service Officer (Qualifying Individual), Bok Hoe Chua, President. Application Type: New OFF & NVO License.

Empire Global Lines, Inc. (NVO), 1701 Pollit Drive, Fair Lawn, NJ 07410. Officers: Uri Cohen, President (Qualifying Individual). Application Type: License Transfer.

Excel Cargo Services, Inc. dba CaribEx Worldwide (OFF & NVO), 4248 Piedmont Parkway, Greensboro, NC 27410. Officers: Don Milligan, Vice President (Qualifying Individual), John Ford, President. Application Type: QI Change.

Movendo Caribe Inc. (OFF & NVO), S-8 Nebraska Street, Guaynabo, PR 00969. Officers: Margarita G. Casseres, President (Qualifying Individual). Application Type: Add OFF Service.

O.P. Premium Star Logistics LLC dba O.P. Premium Star Logistics (OFF & NVO), 4200 Lightning Court, Bakersfield, CA 93312. Officers: Otto Petgrave, Manager (Qualifying Individual). Application Type: New OFF & NVO License.

Summit Logistics International, Inc. (NVO), 800 Federal Boulevard, Carteret, NJ 07008. Officers: Myles O'Brien, CEO (Qualifying Individual), Robert Agresti, CFO. Application Type: QI Change.

World Freight Solutions Inc. (OFF & NVO), 691 Dekle Street, Mobile, AL 36602. Officers: Rhonda Hofman, President (Qualifying Individual), Glenn Beauchamp, Vice President. Application Type: New OFF & NVO License.

Dated: June 18, 2010.
Karen V. Gregory,
Secretary.

[FR Doc. 2010-15232 Filed 6-22-10; 8:45 am]

BILLING CODE 6730-01-P